DEPARTMENT OF STATE

[Public Notice: 11575]

Department of State Performance Review Board Members

In accordance with section 4314(c)(4) of 5 United States Code, the Department of State has appointed the following individuals to the Performance Review Board for Career and Non-Career Senior Executive Service members:

Erin M. Barclay, Coordinator for Democratic Renewal, Office of the Undersecretary for Civilian Security, Democracy and Human Rights, Department of State;

Hilary Batjer Johnson, Deputy Coordinator, Bureau of Counterterrorism, Department of State;

Jane Rhee, Deputy Assistant Secretary, International Organization Affairs, Department of State;

Keith A. Jones, Chief Information Officer, Information Resource Management; Department of State

Kerry Neal, Managing Director, Comptroller and Global Financial Services, Department of State;

Roger Carstens, Special Envoy, Office of the Special Presidential Envoy for Hostage Affairs, Department of State;

Shawn M. Pompian, Assistant Legal Adviser, Office of the Legal Adviser, Department of State.

and,

Sherry Hannah, Deputy Director, Bureau of Budget & Planning, Department of State.

Erica Spriggs,
Division Director, Executive Services and Performance Management, Department of State.

[FR Doc. 2021-24552 Filed 11-9-21; 8:45 am]

BILLING CODE 4710-15-P